DEPARTMENT OF HEALTH AND HUMAN SERVICES

National Institutes of Health

National Cancer Institute; Amended Notice of Meeting

Notice is hereby given of a change in the meeting of the National Cancer Institute Special Emphasis Panel, February 10, 2005, 8 a.m. to February 11, 2005, 5 p.m. Gaithersburg Marriott Washingtonian Center, 9751 Washingtonian Boulevard, Gaithersburg, MD 20878 which was published in Federal Register on December 26, 2004, 69 FR 241.

The amendment text was the addition of the title of the meeting: Colorectal Cancer Screening in Primary Care Practice. The meeting is closed to the public.

Dated: February 22, 2005.
LaVerne Y. Stringfield,
Director, Office of Federal Advisory Committee Policy.

[FR Doc. 05-2360 Filed 2-7-05; 8:45 am]

BILLING CODE 4140-01-M